AGENCY FOR INTERNATIONAL DEVELOPMENT

Notice of Meeting

Pursuant to the Federal Advisory Committee Act, notice is hereby given of a meeting of the Advisory Committee on Voluntary Foreign Aid (ACVFA).

Date: May 31, 2001 (8:45 a.m. to 4 p.m.).

Location: Wyndham Washington DC, 1400 M Street, NW., Washington, DC.

This meeting will feature discussion of USAID's new approach to doing business in the Bush Administration. The new USAID Administrator, Andrew S. Natsios, will speak about his priorities for foreign assistance and his plans for the Agency.

The meeting is free and open to the public. Persons wishing to attend the meeting can fax or e-mail their name to Rhonda Fagan, (703) 931-9300, rfagan@datexinc.com.

Dated: May 1, 2001.
Noreen O'Meara,
Executive Director, Advisory Committee on Voluntary Foreign Aid (ACVFA).

[FR Doc. 01-12665 Filed 5-18-01; 8:45 am]

BILLING CODE 6116-01-M